DEPARTMENT OF TRANSPORTATION

Federal Aviation Administration

14 CFR Part 39

[Docket No. 2003-NE-12-AD; Amendment 39-14609; AD 2006-11-05]

RIN 2120-AA64

Airworthiness Directives; Rolls-Royce plc RB211 Series Turbofan Engines; Correction

AGENCY: Federal Aviation Administration, DOT.

ACTION: Final rule; correction.

SUMMARY: This document makes a correction to Airworthiness Directive (AD) 2006-11-05 applicable to Rolls-Royce plc (RR) RB211-22B series, RB211-524B, -524C2, -524D4, -524G2, -524G3, and -524H series, and RB211-535C and -535E series turbofan engines with high pressure compressor (HPC) stage 3 disc assemblies, part numbers (P/Ns) LK46210, LK58278, LK67634, LK76036, UL11706, UL15358, UL22577, UL22578, and UL24738 installed. That AD published in the Federal Register on May 23, 2006 (71 FR 29586). The “-524B-02, B-B-02, B3-02, and B4 series, Pre SB No. 72-7730” in the Regulatory section is incorrect. This document corrects that requirement. In all other respects, the original document remains the same.

DATES: Effective Date: October 3, 2006.

FOR FURTHER INFORMATION CONTACT: Ian Dargin, Aerospace Engineer, Engine Certification Office, FAA, Engine and Propeller Directorate, 12 New England Executive Park, Burlington, MA 01803; telephone (781) 238-7178; fax (781) 238-7199.

SUPPLEMENTARY INFORMATION: A final rule AD FR Doc, 06-4713 applicable to RR RB211-22B series, RB211-524B, -524C2, -524D4, -524G2, -524G3, and -524H series, and RB211-535C and -535E series turbofan engines with high pressure compressor (HPC) stage 3 disc assemblies, part numbers (P/Ns) LK46210, LK58278, LK67634, LK76036, UL11706, UL15358, UL22577, UL22578, and UL24738 installed, was published in the Federal Register on May 23, 2006 (71 FR 29586). The following correction is needed:

§ 39.13 [Corrected]

On page 29587, in the first column of Table 1, in the second row, in the third line, “-524B-02, B-B-02, B3-02, and B4 series, Pre SB No. 72-7730” is corrected to read “-524B-02, B-B-02, B3-02, and B4 series, Pre and Post accomplishment of SB No. 72-7730”.

Issued in Burlington, Massachusetts, on September 26, 2006.
Peter A. White,
Acting Manager, Engine and Propeller Directorate, Aircraft Certification Service.

[FR Doc. E6-16235 Filed 10-2-06; 8:45 am]

BILLING CODE 4910-13-P